DEPARTMENT OF TRANSPORTATION

[Docket No. DOT-OST-2014-0102]

Office of Inspector General; Proposed Agency Information Collection Activities; Comment Request

AGENCY: Office of the Inspector General (OIG), Department of Transportation.

ACTION: Notice and request for comments.

SUMMARY: The Department of Transportation (DOT) invites public comments about our intention to request the Office of Management and Budget (OMB) approval for a new information collection. The collection involves the nation's large and medium hub airports and their participation in hiring Disadvantaged Business Enterprises (DBEs), and what has led to airports' successes and failures in achieving their goals in regards to the DBE program. The information to be collected will be used to inform the Office of Inspector General and the Department of Transportation on factors that led to the successful hiring of DBE's at airports around the nation. We are required to publish this notice in the Federal Register by the Paperwork Reduction act of 1995, Public Law 104-13.

DATES: Comments must be submitted on or before August 29, 2014.

ADDRESSES: You may submit comments by Federal Docket Management System (FDMS) Docket Number DOT-OST-2014-0102 using any of the following methods:

• Federal eRulemaking Portal: http://www.regulations.gov. Follow the online instructions for submitting comments.

• Fax: 1 (202) 493-2251

• Mail: Docket Management System, U.S. Department of Transportation, 1200 New Jersey Avenue, SE., West Building, Room W12-140, Washington, DC 20590

• Hand Deliver: West building, Ground Floor, Room 12-140, 1200 New Jersey Avenue SE., Washington, DC, between 9:00 a.m. and 5:00 p.m., ET, Monday through Friday, except Federal holidays.

FOR FURTHER INFORMATION CONTACT: Amy Berks, Office of Legal Counsel, Office of Inspector General, Department of Transportation, 202-366-7165, 1200 New Jersey Ave. SE., Washington, DC 20590.

SUPPLEMENTARY INFORMATION: Title: OIG Data Collection for DBE Participation at Large and Medium Hub Airports.

Form Numbers: N/A.

Type of Review: New Information Collection.

Background: Under section 140(c) of the FAA Modernization and Reform Act of 2012, the Office of Inspector General, Department of Transportation has been directed to report on the nation's large and medium hub airports regarding their ability to hire new DBEs, assess the reasons why the most successful airports have been able to provide such opportunities, and to give recommendations to the FAA and Congress on methods for other airports to achieve results similar to those of the top airports. The information to be collected will help OIG establish which airports have been successful in the DBE hiring process and factors that led to their success.

OIG plans to collect information from large and medium hub airports on DBE programs and DBE participation. The respondents consist of the approximately 65 large and medium hub airports that receive funding from the FAA and are required to have a DBE program. Large hub airports are defined as commercial airports that have at least 1.0 percent of passenger boardings. Medium hub airports are defined as commercial airports that have at least .25 percent but less than 1.0 percent of passenger boardings. OIG plans to collect the information primarily by conducting interviews. OIG will send out a questionnaire in advance to the airports, to allow the airports to collect responsive information and documents and prepare for the interview.

Respondents: Large and medium hub airports.

Number of Respondents: Approximately 65.

Frequency: Annually.

Number of Responses: One per annum.

Estimated Time per Response: Total information collection: 8 hours per respondent; subsequent interview process: 4 hours per respondent.

Total Annual Burden: Approximately 780 hours. Approximately 65 respondents with 12 total burden hours per respondent.

Public Comments are Invited: You are asked to comment on any aspect of this information collection, including: (1) Whether the proposed collection of information is necessary for the proper performance of the OIG's functions, including whether the information will have practical utility; (2) the accuracy of the estimated burden of the proposed information collection; (3) ways for the OIG to enhance the quality, usefulness, and clarity of the collected information; and (4) ways that the burden could be minimized on respondents, including the use of automated collection techniques or other forms of information technology without reducing the quality of the collected information. The agency will summarize or include your comments in the request for OMB's clearance of this information collection.

Authority: The Paperwork Reduction Act of 1995; 44 U.S.C. Chapter 35, as amended; and 49 CFR 1:48. Issued in Washington, DC, on June 24th, 2014.

Dated: June 24, 2014.
Joseph Comé,
Deputy Principal Assistant Inspector General for Auditing and Evaluation, Office of Inspector General.

[FR Doc. 2014-15315 Filed 6-27-14; 8:45 am]

BILLING CODE 4910-9X-P